DEPARTMENT OF COMMERCE

National Oceanic and Atmospheric Administration

50 CFR Part 622

[Docket No. 250623-0107]

RIN 0648-BN22

Fishery Management Plan of Puerto Rico; Triggerfish Management Measures

AGENCY: National Marine Fisheries Service (NMFS), National Oceanic and Atmospheric Administration (NOAA), Commerce.

ACTION: Final rule.

SUMMARY: NMFS issues this final rule to implement management measures described in Framework Action 3 under the Puerto Rico Fishery Management Plan (FMP) (Framework Action 3). Specifically, this final rule modifies the annual catch limits (ACLs) for the triggerfish stock complex in Federal waters off Puerto Rico. The purpose of this final rule and Framework Action 3 is to update management reference points for the triggerfish stock complex under the Puerto Rico FMP consistent with the most recent stock assessment to prevent overfishing and achieve optimum yield (OY).

DATES: This final rule is effective July 25, 2025.

ADDRESSES: Electronic copies of Framework Action 3, which includes an environmental assessment, a regulatory impact review, and a Regulatory Flexibility Act analysis, may be obtained from the Southeast Regional Office website at: https://www.fisheries.noaa.gov/action/framework-action-3-puerto-rico-fishery-management-plan-modification-status-determination.

FOR FURTHER INFORMATION CONTACT: Maria Lopez-Mercer, NMFS Southeast Regional Office, 727-824-5305, maria.lopez@noaa.gov.

SUPPLEMENTARY INFORMATION: The triggerfish stock complex in the Federal waters off Puerto Rico consists of ocean triggerfish, gray triggerfish and queen triggerfish, and is managed under the Puerto Rico FMP. The Puerto Rico FMP was prepared by the Caribbean Fishery Management Council (Council), approved by the Secretary of Commerce, and is implemented by NMFS through regulations at 50 CFR part 622 under the authority of the Magnuson-Stevens Fishery Conservation and Management Act (Magnuson-Stevens Act). On December 17, 2024, NMFS published a proposed rule to implement Framework Action 3 and requested public comment (89 FR 102100). The proposed rule and Framework Action 3 outline the rationale for the actions contained in this final rule. A summary of the management measures described in Framework Action 3 and implemented by this final rule is described below.

Executive Order 14172, “Restoring Names that Honor American Greatness” (January 20, 2025), directs that the Gulf of Mexico be renamed the Gulf of America. Consistent with the order, NMFS uses Gulf of America to refer to the geographical area previously known as the Gulf of Mexico, except when a statute or existing regulations explicitly refer to the “Gulf of Mexico.” Relevant to this rulemaking, existing regulations contained in 50 CFR part 622, including the heading for that part, refer to the Gulf of Mexico, as well as the South Atlantic and Caribbean. Amending the heading of 50 CFR part 622 is beyond the scope of this rulemaking.

All weights described in this final rule are in round weight.

Background

The Magnuson-Stevens Act requires NMFS and regional fishery management councils to prevent overfishing and to achieve, on a continuing basis, the OY from federally managed fish stocks to ensure that fishery resources are managed for the greatest overall benefit to the nation, particularly with respect to providing food production and recreational opportunities, and protecting marine ecosystems.

This action is taken under the statutory authority of the Magnuson-Stevens Act section 303(a)(1) as necessary and appropriate for the conservation and management of the fishery to prevent overfishing and to promote the long-term health and stability of the fishery.

NMFS, with the advice of the Council, manages fisheries in Federal waters around Puerto Rico under the Puerto Rico FMP. On September 22, 2020, the Secretary of Commerce approved the Puerto Rico FMP under section 304(a)(3) of the Magnuson-Stevens Act. NMFS published the final rule in the Federal Register to implement the Puerto Rico FMP on September 13, 2022 (87 FR 56204), which, among other measures, included the current ACL values for the triggerfish stock complex in Puerto Rico. The Puerto Rico FMP contains management measures applicable for Federal waters off Puerto Rico, which extend seaward from 9 nautical miles (nm) (16.7 kilometers (km)) from shore to the offshore boundary of the U.S. Caribbean exclusive economic zone.

The Puerto Rico FMP established status determination criteria (SDC) and other management reference points for triggerfish species under Federal management off Puerto Rico. In the Puerto Rico FMP, the triggerfish stock complex contains queen triggerfish, ocean triggerfish, and gray triggerfish. Queen triggerfish is the indicator stock for the complex because of the limited information (e.g., landings) available for ocean and gray triggerfish. Thus, management measures, SDC, and other reference points are based on landings of queen triggerfish only, but apply to the entire complex.

The Puerto Rico FMP applies a four-tiered acceptable biological catch (ABC) control rule depending on differing levels of data availability. Each tier specifies SDC, such as the maximum fishing mortality threshold (MFMT), minimum stock size threshold (MSST), and overfishing limit (OFL), or OFL proxy, and other reference points such as the maximum sustainable yield (MSY), or MSY proxy, and ABC. Under the ABC control rule, tier 1 applies to stocks with the most data available, and each subsequent tier operates with less available data than the preceding tier. Tier 4, the final tier, is the most data limited and applies when no accepted quantitative assessment is available. Tier 4 contains two sub-tiers, tier 4a and tier 4b, which are based on an understanding of the stock's vulnerability to fishing pressure. Tier 4a applies when the stock's vulnerability to fishing pressure is relatively low or moderate, while tier 4b applies to stocks with a high vulnerability to fishing pressure.

In the Puerto Rico FMP, the triggerfish stock complex is considered a tier 4a stock and the MSY proxy, MFMT, and MSST were defined, but as a result of data limitations, were not quantified. Similarly, the OFL for the triggerfish stock complex could not be quantified in the Puerto Rico FMP and a new reference point, the sustainable yield level (SYL), was quantified and used as the OFL proxy. The SYL is a level of landings that can be sustained by a stock over the long-term. For the triggerfish stock complex, the Council's Scientific and Statistical Committee (SSC) derived the ABC from the SYL, and the Council recommended an ACL for the triggerfish stock complex equal to 95 percent of the recommended ABC. The total ACL was set equal to OY. Under the Puerto Rico FMP, commercial and recreational data were available to establish sector-specific ACLs for the triggerfish stock complex, which were equal to 91.77 percent and 8.23 percent of the total ACL, respectively. For the triggerfish stock complex, the current total ACL is 90,552 pounds (lb) (41,073.6 kilograms (kg)), the commercial ACL is 83,099 lb (37,693 kg), and the recreational ACL is 7,453 lb (3,380.6 kg).

In 2022, the Southeast Data, Assessment, and Review (SEDAR) stock assessment was completed for queen triggerfish in Puerto Rico (SEDAR 80). SEDAR 80 was reviewed by the Council's SSC and determined to be suitable for short-term (i.e., <5 years) management advice. The Council's SSC in consultation with NMFS' Southeast Fisheries Science Center (SEFSC) determined that SEDAR 80 represented the best scientific information available and recommended queen triggerfish (i.e., the triggerfish stock complex) be reclassified from a tier 4a stock to a tier 3 stock (data limited, accepted assessment available) under the Puerto Rico FMP ABC control rule. Under tier 3, if the biomass of the stock goes below MSST, the stock would be determined to be overfished and the Council would then need to develop a rebuilding plan capable of returning the stock to a level that allows the stock to achieve MSY on a continuing basis. Additionally, under tier 3, in years when there is a stock assessment, the stock would be considered to be undergoing overfishing if fishing mortality exceeds the MFMT. This level of fishing mortality, if continued, would reduce the stock biomass to an overfished condition. In years in which there is no assessment, the stock complex would be considered to be undergoing overfishing if landings exceed the OFL.

Under tier 3, the ABC is derived by reducing the OFL by the Council's SSC scientific uncertainty buffer and reflecting the acceptable probability of overfishing determined by the Council (defined as P*). The Council's SSC coordinated with the SEFSC to provide OFLs and ABCs for the triggerfish stock complex. At the December 2022 Council meeting, the Council's SSC recommended both variable and constant OFLs and ABCs for years 2024 to 2026 for the triggerfish stock complex, with the ABCs across a range of P* values. NMFS agreed with the Council's recommendation to use a P* value of 0.4 and set a constant value OFL and ABC, which are equal to the 3-year average OFLs and ABCs from years 2024 to 2026. The total ACL for the triggerfish stock complex is then derived by reducing the ABC by the Council's management uncertainty buffer.

Following the SEDAR 80 stock assessment and recommendations from the Council's SSC, NMFS and the Council developed Framework Action 3 to update management reference points to prevent overfishing of the triggerfish stock complex and achieve OY, consistent with the requirements of the Magnuson-Stevens Act. In Framework Action 3, the Council recommended a 5 percent management uncertainty buffer to set the total ACL for the stock complex equal to 95 percent of the ABC. The Council specified commercial and recreational ACLs for the triggerfish stock complex using the same sector allocation percentages used under the Puerto Rico FMP (91.77 percent of the total ACL for the commercial sector and 8.23 percent of the total ACL for the recreational sector). Currently, recreational landings in Puerto Rico are not being collected by the NMFS' Marine Recreational Information Program, which was disrupted by Hurricane Maria in 2017, and has not yet resumed operations in Puerto Rico. Therefore, Framework Action 3 did not consider any revisions to the sector allocations for the triggerfish complex.

Management Measures Contained in This Final Rule

This final rule revises the total, commercial, and recreational ACLs for the triggerfish stock complex in Federal waters off Puerto Rico. The total ACL for the triggerfish stock complex will decrease from 90,552 lb (41,073.6 kg) to 87,220 lb (39,562 kg). The commercial ACL for the complex will decrease from 83,099 lb (37,693 kg) to 80,041 lb (36,306 kg). The recreational ACL for the complex will decrease from 7,453 lb (3,380.6 kg) to 7,178 lb (3,256 kg).

The updated ACLs are expected to better protect the stock complex against the risk of overfishing in relation to the current ACLs, thus ensuring, to the greatest extent practicable, continued access to the resource in future years.

Measures Contained in Framework Action 3 Not Codified in This Final Rule

In addition to the ACL revisions described in this final rule and consistent with SEDAR 80, Framework Action 3 revises the MFMT, OFL, and ABC for the triggerfish stock complex under the Puerto Rico FMP. The MFMT, previously not quantified, will be 0.215. The OFL will decrease from the SYL (OFL proxy) of 190,636 lb (86,471 kg) to 118,283 lb (53,652 kg), and the ABC will decrease from 95,318 lb (45,236 kg) to 91,810 lb (41,644 kg). Because estimates of the long-term recruitment for queen triggerfish assessed in SEDAR 80 are unknown, values for the MSY and MSST were not quantified in Framework Action 3 and remain as defined under tier 3 of the ABC control rule. The MSY proxy is equal to 30 percent of the spawning potential ratio, and MSST is equal to 75 percent of the spawning stock biomass produced when fishing at MSY or MSY proxy. The updated management reference points are expected to better protect the stock complex against the risk of overfishing in relation to the current reference points, thus ensuring, to the greatest extent practicable, continued access to the resource in future years.

Comments and Responses

NMFS did not receive any comments on the proposed rule to implement management measures described in Framework Action 3. Therefore, no changes were made to this final rule based on public comment.

Classification

Pursuant to section 304(b)(3) of the Magnuson-Stevens Act, the NMFS Assistant Administrator has determined that this final rule is consistent with Framework Action 3, the Puerto Rico FMP, other provisions of the Magnuson-Stevens Act, and other applicable laws.

This final rule has been determined to be not significant for purposes of Executive Order 12866. This final rule is not an Executive Order 14192 regulatory action because this action is not significant under Executive Order 12866.

The Magnuson-Stevens Act provides the statutory basis for this final rule. No duplicative, overlapping, or conflicting Federal rules have been identified. In addition, no new reporting or recordkeeping compliance requirements are introduced in this final rule. This final rule contains no information collection requirements under the Paperwork Reduction Act of 1995 (44 U.S.C. 3501 et seq.). A description of this final rule, why it is being considered, and the purposes of this final rule are contained in the SUMMARY and SUPPLEMENTARY INFORMATION sections of this final rule.

The Chief Counsel for Regulation of the Department of Commerce certified to the Chief Counsel for Advocacy of the Small Business Administration during the proposed rule stage that this final rule would not have a significant economic impact on a substantial number of small entities. The factual basis for the certification was published in the proposed rule and is not repeated here. No comments from the public were received regarding this certification. As a result, a final regulatory flexibility analysis was not required and none was prepared.

NMFS has determined that this action would not have a substantial direct effect on one or more Indian Tribes, on the relationship between the Federal Government and Indian Tribes, or on the distribution of power and responsibilities between the Federal Government and Indian Tribes; therefore, consultation with Tribal officials under Executive Order 13175 is not required, and the requirements of sections (5)(b) and (5)(c) of Executive Order 13175 also do not apply. A Tribal summary impact statement under section (5)(b)(2)(B) and section (5)(c)(2)(B) of Executive Order 13175 is not required and has not been prepared.

List of Subjects in 50 CFR Part 622

Caribbean, Fisheries, Fishing, Reef fish, Triggerfish.

Authority: 16 U.S.C. 1801 et seq.

Dated: June 23, 2025.
Samuel D. Rauch, III,
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. In § 622.440, amend paragraphs (a)(1) through (3) by revising the table headings and the entries for Triggerfishes for Table 1 to § 622.440(a)(1), Table 2 to § 622.440(a)(2), and Table 3 to § 622.440(a)(3) to read as follows:

§ 622.440 Annual catch limits (ACLs), annual catch targets (ACTs), and accountability measures (AMs).

(a) * * *

(1) * * *

Table 1 to Paragraph (a)(1)
Family | Stock or stock complex and species composition | Commercial ACL
* * * * * * *
Triggerfishes | Triggerfish—gray triggerfish, ocean triggerfish, queen triggerfish ¹ | 80,041 lb (36,306 kg).
* * * * * * *
¹ Indicator stock.

* * * * *

(2) * * *

Table 2 to Paragraph (a)(2)
Family | Stock or stock complex and species composition | Recreational ACL
* * * * * * *
Triggerfishes | Triggerfish—gray triggerfish, ocean triggerfish, queen triggerfish ¹ | 7,178 lb (3,256 kg).
* * * * * * *
¹ Indicator stock.

* * * * *

(3) * * *

Table 3 to Paragraph (a)(3)
Family | Stock or stock complex and species composition | Total ACL
* * * * * * *
Triggerfishes | Triggerfish—gray triggerfish, ocean triggerfish, queen triggerfish ¹ | 87,220 lb (39,562 kg).
* * * * * * *
¹ Indicator stock.

* * * * *

[FR Doc. 2025-11712 Filed 6-24-25; 8:45 am]

BILLING CODE 3510-22-P